DEPARTMENT OF HOMELAND SECURITY

Federal Emergency Management Agency

44 CFR Part 64

[Docket ID FEMA-2014-0002; Internal Agency Docket No. FEMA-8365]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective Dates: The effective date of each community's scheduled suspension is the third date (“Susp.”) listed in the third column of the following tables.

FOR FURTHER INFORMATION CONTACT: If you want to determine whether a particular community was suspended on the suspension date or for further information, contact Bret Gates, Federal Insurance and Mitigation Administration, Federal Emergency Management Agency, 500 C Street SW., Washington, DC 20472, (202) 646-4133.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Delaware:
Ardentown, Village of, New Castle County | 100058 | N/A, Emerg; January 28, 1997, Reg; February 4, 2015, Susp | February 4, 2015 | February 4, 2015.
Delaware City, City of, New Castle County | 100022 | December 17, 1973, Emerg; February 16, 1977, Reg; February 4, 2015, Susp | ......do* | Do.
Elsmere, Town of, New Castle County | 100023 | October 2, 1974, Emerg; December 31, 1976, Reg; February 4, 2015, Susp | ......do | Do.
Middletown, Town of, New Castle County | 100024 | June 13, 1974, Emerg; January 7, 1977, Reg; February 4, 2015, Susp | ......do | Do.
New Castle County, Unincorporated Areas | 105085 | June 6, 1970, Emerg; December 3, 1971, Reg; February 4, 2015, Susp | ......do | Do.
Newark, City of, New Castle County | 100025 | June 5, 1970, Emerg; March 29, 1974, Reg; February 4, 2015, Susp | ......do | Do.
Newport, Town of, New Castle County | 100054 | May 28, 1974, Emerg; June 15, 1978, Reg; February 4, 2015, Susp | ......do | Do.
Odessa, Town of, New Castle County | 100066 | N/A, Emerg; April 27, 2012, Reg; February 4, 2015, Susp | ......do | Do.
Wilmington, City of, New Castle County | 100028 | December 19, 1973, Emerg; May 2, 1977, Reg; February 4, 2015, Susp | ......do | Do.
Maryland:
Crisfield, City of, Somerset County | 240062 | April 28, 1975, Emerg; June 15, 1981, Reg; February 4, 2015, Susp | ......do | Do.
Princess Anne, Town of, Somerset County | 240063 | January 28, 1974, Emerg; April 20, 1979, Reg; February 4, 2015, Susp | ......do | Do.
Somerset County, Unincorporated Areas | 240061 | May 8, 1975, Emerg; June 15, 1981, Reg; February 4, 2015, Susp | ......do | Do.
Region V
Indiana:
Greentown, Town of, Howard County | 180513 | September 14, 1995, Emerg; N/A, Reg; February 4, 2015, Susp | ......do | Do.
Howard County, Unincorporated Areas | 180414 | March 6, 1975, Emerg; July 16, 1981, Reg; February 4, 2015, Susp | ......do | Do.
Kokomo, City of, Howard County | 180093 | February 19, 1975, Emerg; August 3, 1981, Reg; February 4, 2015, Susp | ......do | Do.
Russiaville, Town of, Howard County | 180427 | September 15, 1975, Emerg; June 1, 1979, Reg; February 4, 2015, Susp | ......do | Do.
Michigan: Aetna, Township of, Mecosta County | 261448 | March 18, 2010, Emerg; N/A, Reg; February 4, 2015, Susp | ......do | Do.
Big Rapids, City of, Mecosta County | 260136 | May 14, 1975, Emerg; September 1, 1986, Reg; February 4, 2015, Susp | ......do | Do.
Big Rapids, Township of, Mecosta County | 260135 | August 20, 1975, Emerg; September 1, 1988, Reg; February 4, 2015, Susp | ......do | Do.
Colfax, Town of, Mecosta County | 260903 | October 2, 1992, Emerg; May 1, 1994, Reg; February 4, 2015, Susp | ......do | Do.
Deerfield, Township of, Mecosta County | 261451 | March 18, 2010, Emerg; N/A, Reg; February 4, 2015, Susp | ......do | Do.
Fork, Township of, Mecosta County | 260633 | September 3, 1975, Emerg; May 25, 1984, Reg; February 4, 2015, Susp | ......do | Do.
Green, Charter Township of, Mecosta County | 260951 | March 11, 1996, Emerg; N/A, Reg; February 4, 2015, Susp | ......do | Do.
Mecosta, Township of, Mecosta County | 260698 | October 7, 1976, Emerg; September 4, 1986, Reg; February 4, 2015, Susp | ......do | Do.
Morley, Village of, Mecosta County | 260585 | October 12, 1976, Emerg; July 16, 1987, Reg; February 4, 2015, Susp | ......do | Do.
Morton, Township of, Mecosta County | 261454 | August 5, 2009, Emerg; N/A, Reg; February 4, 2015, Susp | ......do | Do.
Wisconsin:
Fort Atkinson, City of, Jefferson County | 555554 | November 13, 1970, Emerg; August 6, 1971, Reg; February 4, 2015, Susp | ......do | Do.
Jefferson, City of, Jefferson County | 555561 | April 23, 1971, Emerg; May 26, 1972, Reg; February 4, 2015, Susp | ......do | Do.
Jefferson County, Unincorporated Areas | 550191 | April 2, 1971, Emerg; September 29, 1978, Reg; February 4, 2015, Susp | ......do | Do.
Johnson Creek, Village of, Jefferson County | 550194 | February 13, 1976, Emerg; September 30, 1982, Reg; February 4, 2015, Susp | ......do | Do.
Lake Mills, City of, Jefferson County | 550195 | September 10, 1975, Emerg; July 2, 1987, Reg; February 4, 2015, Susp | ......do | Do.
Palmyra, Village of, Jefferson County | 550196 | May 13, 1975, Emerg; May 3, 1990, Reg; February 4, 2015, Susp | ......do | Do.
Sullivan, Village of, Jefferson County | 550197 | July 10, 1975, Emerg; September 18, 1985, Reg; February 4, 2015, Susp | ......do | Do.
Waterloo, City of, Jefferson County | 550198 | July 25, 1975, Emerg; September 18, 1985, Reg; February 4, 2015, Susp | ......do | Do.
Watertown, City of, Jefferson and Dodge Counties | 550107 | May 23, 1975, Emerg; April 1, 1981, Reg; February 4, 2015, Susp | ......do | Do.
Region VII
Missouri:
Ballwin, City of, Saint Louis County | 290328 | July 8, 1975, Emerg; January 2, 1981, Reg; February 4, 2015, Susp | ......do | Do.
Bella Villa, City of, Saint Louis County | 290329 | June 18, 1975, Emerg; July 16, 1979, Reg; February 4, 2015, Susp | ......do | Do.
Bellefontaine Neighbors, City of, Saint Louis County | 290330 | December 10, 1973, Emerg; September 29, 1978, Reg; February 4, 2015, Susp | ......do | Do.
Bel-Ridge, Village of, Saint Louis County | 290333 | June 11, 1975, Emerg; February 18, 1981, Reg; February 4, 2015, Susp | ......do | Do.
Berkeley, City of, Saint Louis County | 290335 | November 15, 1973, Emerg; August 1, 1979, Reg; February 4, 2015, Susp | ......do | Do.
Black Jack, City of, Saint Louis County | 290336 | July 2, 1974, Emerg; January 2, 1981, Reg; February 4, 2015, Susp | ......do | Do.
Breckenridge Hills, City of, Saint Louis County | 290337 | July 18, 1975, Emerg; October 15, 1980, Reg; February 4, 2015, Susp | ......do | Do.
Brentwood, City of, Saint Louis County | 290338 | September 7, 1973, Emerg; May 16, 1977, Reg; February 4, 2015, Susp | ......do | Do.
Bridgeton, City of, Saint Louis County | 290339 | December 10, 1973, Emerg; September 1, 1978, Reg; February 4, 2015, Susp | ......do | Do.
Chesterfield, City of, Saint Louis County | 290896 | September 3, 1971, Emerg; September 15, 1978, Reg; February 4, 2015, Susp | ......do | Do.
Clarkson Valley, City of, Saint Louis County | 290340 | May 27, 1975, Emerg; April 8, 1977, Reg; February 4, 2015, Susp | ......do | Do.
Clayton, City of, Saint Louis County | 290341 | December 23, 1971, Emerg; February 14, 1976, Reg; February 4, 2015, Susp | ......do | Do.
Cool Valley, City of, Saint Louis County | 290342 | December 11, 1973, Emerg; May 16, 1977, Reg; February 4, 2015, Susp | ......do | Do.
Crestwood, City of, Saint Louis County | 290343 | June 18, 1973, Emerg; May 2, 1977, Reg; February 4, 2015, Susp | ......do | Do.
Creve Coeur, City of, Saint Louis County | 290344 | March 27, 1974, Emerg; August 1, 1978, Reg; February 4, 2015, Susp | ......do | Do.
Dellwood, City of, Saint Louis County | 290346 | July 19, 1974, Emerg; June 27, 1978, Reg; February 4, 2015, Susp | ......do | Do.
Des Peres, City of, Saint Louis County | 290347 | December 26, 1973, Emerg; June 15, 1979, Reg; February 4, 2015, Susp | ......do | Do.
Ellisville, City of, Saint Louis County | 290348 | February 5, 1975, Emerg; September 9, 1980, Reg; February 4, 2015, Susp | ......do | Do.
Eureka, City of, Saint Louis County | 290349 | January 23, 1974, Emerg; July 5, 1977, Reg; February 4, 2015, Susp | ......do | Do.
Fenton, City of, Saint Louis County | 290350 | February 25, 1972, Emerg; January 19, 1978, Reg; February 4, 2015, Susp | ......do | Do.
Ferguson, City of, Saint Louis County | 290351 | May 3, 1973, Emerg; January 19, 1978, Reg; February 4, 2015, Susp | ......do | Do.
Florissant, City of, Saint Louis County | 290352 | June 11, 1973, Emerg; February 4, 1981, Reg; February 4, 2015, Susp | ......do | Do.
Frontenac, City of, Saint Louis County | 290353 | March 31, 1975, Emerg; February 18, 1981, Reg; February 4, 2015, Susp | ......do | Do.
Grantwood Village, Town of, Saint Louis County | 290355 | May 20, 1974, Emerg; January 16, 1981, Reg; February 4, 2015, Susp | ......do | Do.
Green Park, City of, Saint Louis County | 290668 | N/A, Emerg; August 12, 1998, Reg; February 4, 2015, Susp | ......do | Do.
Hazelwood, City of, Saint Louis County | 290357 | November 27, 1973, Emerg; April 1, 1980, Reg; February 4, 2015, Susp | ......do | Do.
Hillsdale, Village of, Saint Louis County | 290358 | August 27, 1975, Emerg; August 24, 1984, Reg; February 4, 2015, Susp | ......do | Do.
Huntleigh, City of, Saint Louis County | 290359 | N/A, Emerg; December 30, 1998, Reg; February 4, 2015, Susp | ......do | Do.
Jennings, City of, Saint Louis County | 290360 | December 19, 1973, Emerg; June 15, 1979, Reg; February 4, 2015, Susp | ......do | Do.
Kirkwood, City of, Saint Louis County | 290362 | November 5, 1973, Emerg; April 3, 1987, Reg; February 4, 2015, Susp | ......do | Do.
Ladue, City of, Saint Louis County | 290363 | October 22, 1971, Emerg; March 16, 1976, Reg; February 4, 2015, Susp | ......do | Do.
Mackenzie, Village of, Saint Louis County | 290365 | April 5, 1973, Emerg; September 29, 1978, Reg; February 4, 2015, Susp | ......do | Do.
Manchester, City of, Saint Louis County | 290366 | September 3, 1975, Emerg; October 15, 1980, Reg; February 4, 2015, Susp | ......do | Do.
Maplewood, City of, Saint Louis County | 295266 | May 21, 1971, Emerg; November 23, 1973, Reg; February 4, 2015, Susp | ......do | Do.
Maryland Heights, City of, Saint Louis County | 290889 | April 4, 1986, Emerg; September 30, 1988, Reg; February 4, 2015, Susp | ......do | Do.
Northwoods, City of, Saint Louis County | 290372 | April 12, 1974, Emerg; December 2, 1980, Reg; February 4, 2015, Susp | ......do | Do.
Oakland, City of, Saint Louis County | 290373 | June 5, 1975, Emerg; January 16, 1981, Reg; February 4, 2015, Susp | ......do | Do.
Olivette, City of, Saint Louis County | 290374 | February 19, 1974, Emerg; July 3, 1978, Reg; February 4, 2015, Susp | ......do | Do.
Overland, City of, Saint Louis County | 290375 | May 22, 1974, Emerg; October 15, 1980, Reg; February 4, 2015, Susp | ......do | Do.
Richmond Heights, City of, Saint Louis County | 290380 | September 5, 1973, Emerg; May 16, 1977, Reg; February 4, 2015, Susp | ......do | Do.
Riverview, Village of, Saint Louis County | 290381 | January 3, 1977, Emerg; April 17, 1979, Reg; February 4, 2015, Susp | ......do | Do.
Rock Hill, City of, Saint Louis County | 290382 | May 29, 1973, Emerg; May 16, 1977, Reg; February 4, 2015, Susp | ......do | Do.
Saint Ann, City of, Saint Louis County | 290383 | July 19, 1974, Emerg; July 16, 1979, Reg; February 4, 2015, Susp | ......do | Do.
Saint John, City of, Saint Louis County | 290384 | May 9, 1975, Emerg; April 15, 1977, Reg; February 4, 2015, Susp | ......do | Do.
Saint Louis County, Unincorporated Areas | 290327 | September 3, 1971, Emerg; September 15, 1978, Reg; February 4, 2015, Susp | ......do | Do.
Shrewsbury, City of, Saint Louis County | 290386 | December 19, 1974, Emerg; January 16, 1981, Reg; February 4, 2015, Susp | ......do | Do.
Sunset Hills, City of, Saint Louis County | 290387 | June 28, 1973, Emerg; September 1, 1977, Reg; February 4, 2015, Susp | ......do | Do.
University City, City of, Saint Louis County | 290390 | April 20, 1973, Emerg; June 1, 1978, Reg; February 4, 2015, Susp | ......do | Do.
Valley Park, City of, Saint Louis County | 290391 | June 23, 1975, Emerg; June 15, 1982, Reg; February 4, 2015, Susp | ......do | Do.
Webster Groves, City of, Saint Louis County | 290394 | January 23, 1974, Emerg; September 29, 1978, Reg; February 4, 2015, Susp | ......do | Do.
Wellston, City of, Saint Louis County | 290395 | May 2, 1975, Emerg; May 19, 1981, Reg; February 4, 2015, Susp | ......do | Do.
Wildwood, City of, Saint Louis County | 290922 | N/A, Emerg; February 28, 1997, Reg; February 4, 2015, Susp | ......do | Do.
Woodson Terrace, City of, Saint Louis County | 290398 | May 14, 1974, Emerg; June 20, 1976, Reg; February 4, 2015, Susp | ......do | Do.
*-do- = Ditto.
Code for reading third column: Emerg.—Emergency; Reg.—Regular; Susp.—Suspension.

Dated: January 20, 2015.
Edward L. Connor,
Deputy Associate Administrator, Federal Insurance and Mitigation Administration, Department of Homeland Security, Federal Emergency Management Agency.

[FR Doc. 2015-01237 Filed 1-22-15; 8:45 am]

BILLING CODE 9110-12-P